DEPARTMENT OF JUSTICE

Bureau of Alcohol, Tobacco, Firearms and Explosives

[OMB Number 1140-0004]

Agency Information Collection Activities; Proposed Collection; Comments Requested: Interstate Firearms Shipment Report of Theft/Loss

Correction

In notice document 2013-06779, appearing on page 18364 in the issue of Tuesday, March 26, 2013, make the following correction:

On page 18364, in the first column, beginning on the 32nd line, “[Insert the date 60 days from the date this notice is published in the Federal Register]” should read “May 28, 2013”.

[FR Doc. C1-2013-06779 Filed 4-15-13; 8:45 am]

BILLING CODE 1505-01-D